FEDERAL COMMUNICATIONS COMMISSION

[OMB 3060-1151]

Information Collection Being Submitted for Review and Approval to the Office of Management and Budget

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The Commission may not conduct or sponsor a collection of information unless it displays a currently valid Office of Management and Budget (OMB) control number. No person shall be subject to any penalty for failing to comply with a collection of information subject to the PRA that does not display a valid OMB control number.

DATES: Written comments should be submitted on or before April 2, 2018. If you anticipate that you will be submitting comments, but find it difficult to do so within the period of time allowed by this notice, you should advise the contacts listed below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-1151.

Title: Sections 1.1420, 1.1422 and 1.1424, Pole Attachment Access Requirements.

Form Number: N/A.

Type of Review: Extension of a currently approved collection.

Respondents: Business or other for-profit.

Number of Respondents and Responses: 763 respondents; 36,136 responses.

Estimated Time per Response: 20-45 hours.

Frequency of Response: On occasion reporting requirement, recordkeeping requirement, and third-party disclosure requirement.

Obligation to Respond: Mandatory. Statutory authority for this information collection is contained in 47 U.S.C. 224.

Total Annual Burden: 448,921 hours.

Total Annual Cost: No cost.

Privacy Act Impact Assessment: No impact(s).

Nature and Extent of Confidentiality: No questions of a confidential nature are asked.

Needs and Uses: The Commission is requesting OMB approval for a three-year extension of this information collection. In Implementation of Section 224 of the Act, A National Broadband Plan for Our Future, WC Docket No. 07-245, GN Docket No. 09-51, Report and Order and Order on Reconsideration, FCC 11-50, the Commission adopted rules that relate to the implementation of section 224 of the Communications Act of 1934, as amended, regarding access to poles that are owned or controlled by utilities. Under the Commission's rules, utilities must provide cable television systems and telecommunications carriers (collectively, “attachers”) with non-discriminatory access to attach facilities to poles, ducts, conduits, or rights-of-way owned or controlled by the utilities (collectively, “pole attachments”). However, utilities may deny in writing those pole attachment applications where there is insufficient capacity on a pole, or for reasons of safety, reliability, and generally applicable engineering purposes. Commission rules also create a series of deadlines or “timelines” by which attachers request and receive permission from utilities for pole attachments. The first stage of the timeline requires utilities to survey the requested poles where access is requested and to perform an engineering analysis. Utilities may notify attachers when they have completed their surveys of the affected poles. With regard to the second stage of the timeline, utilities must present to attachers an estimate of charges for preparing a pole for a new attachment (“make-ready” work). With regard to the make-ready stage of the timeline, utilities are required to send notices of impending make-ready work to entities with existing attachments on the pole. Such notification letters are sent when a make-ready schedule is established. If the make-ready period is interrupted, or if the pole owner asserts its right to a 15-day extension of time to perform make-ready work, then notification letters also are required from the utility to the new attacher.

Additionally, the Order adopted a rule requiring utilities to make available and keep up-to-date a reasonably sufficient list of approved contractors to perform surveys and make-ready work in the communications space of a utility pole. If an attacher uses a utility-approved contractor, then it must notify the utility and invite the utility to send a representative to oversee the work.

Finally, the Order also broadened the existing enforcement process by permitting incumbent local exchange carriers (LECs) to file complaints alleging that the pole attachment rates, terms, or conditions demanded by utilities are unjust or unreasonable. If an incumbent LEC can demonstrate that it is similarly situated to an attacher that is a telecommunications carrier or a cable television system (through relevant evidence, including pole attachment agreements), then it can gain comparable pole attachment rates, terms, and condition as the similarly-situated carrier. The paperwork burdens for this provision are contained in OMB Control No. 3060-0392. The Order also encourages incumbent LECs that benefit from lower pole attachment costs to file data at the Commission that demonstrate that the benefits are being passed on to consumers.

Federal Communications Commission.
Marlene H. Dortch,
Secretary, Office of the Secretary.

[FR Doc. 2018-04224 Filed 3-1-18; 8:45 am]

BILLING CODE 6712-01-P